DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. All property and interests in property subject to U.S. jurisdiction of these persons are blocked, and U.S. persons are generally prohibited from engaging in transactions with them. The vessels placed on the SDN List have been identified as property in which a blocked person has an interest.

DATES: This action was issued on May 13, 2025. See SUPPLEMENTARY INFORMATION for relevant dates.

FOR FURTHER INFORMATION CONTACT: OFAC: Associate Director for Global Targeting, 202-622-2420; Assistant Director for Licensing, 202-622-2480; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On May 13, 2025, OFAC determined that the property and interests in property subject to U.S. jurisdiction of the following persons are blocked under the relevant sanctions authorities listed below.

Individual

BILLING CODE 4810-AL-P

Entities

BILLING CODE 4810-AL-C

On May 13, 2025, OFAC also identified the following vessels as property in which a blocked person has an interest under the relevant sanctions authority listed below.

Vessels

1. BALU (TJM0133) Floating Storage Tanker Cameroon flag; Vessel Registration Identification IMO 9235244; MMSI 613469620 (vessel) [SDGT] (Linked To: FORSAL CHARTERING CORPORATION).

Identified as property in which FORSAL CHARTERING CORPORATION, a person whose property and interests in property are blocked pursuant to E.O. 13224, as amended, has an interest.

2. ROC (3E6750) Crude Oil Tanker Panama flag; Vessel Registration Identification IMO 9275660; MMSI 352004455 (vessel) [SDGT] (Linked To: FINE SANMATA SHIPPING CO., LIMITED).

Identified as property in which FINE SANMATA SHIPPING CO., LIMITED, a person whose property and interests in property are blocked pursuant to E.O. 13224, as amended, has an interest.

Lawrence M. Scheinert,
Acting Deputy Director, Office of Foreign Assets Control.

[FR Doc. 2025-08816 Filed 5-15-25; 8:45 am]

BILLING CODE 4810-AL-P